DEPARTMENT OF STATE

[Public Notice 7764]

Shipping Coordinating Committee; Notice of Committee Meeting

The Shipping Coordinating Committee (SHC) will conduct an open meeting at 10 a.m. on Monday, April 9, 2012, in Room 1422 of the United States Coast Guard Headquarters Building, 2100 Second Street SW., Washington, DC 20593-7121. The primary purpose of the meeting is to prepare for the ninety-ninth Session of the International Maritime Organization's (IMO) Legal Committee to be held at the IMO Headquarters, London, England, United Kingdom, April 16-20, 2012.

The primary matters to be considered include:

Adoption of the agenda; report on credentials;

Monitoring the implementation of the 2010 Protocol to the International Convention on Liability and Compensation for Damage in Connection with the Carriage of Hazardous and Noxious Substances by Sea;

Consideration of a proposal to amend the limits of liability of the 1996 Protocol to the Convention on Limitation of Liability for Maritime Claims, 1976 (LLMC 96);

Provision of financial security in cases of abandonment, personal injury to, or death of seafarers related to entry into force of the International Labour Organization Maritime Labour Convention, 2006;

Fair treatment of seafarers in the event of a maritime accident;

Piracy;

Matters arising from the 106th and 107th regular sessions of the Council; the twenty-sixth extraordinary session of the Council; and the twenty-seventh regular session of the Assembly;

Technical co-operation activities related to maritime legislation;

Review of the status of conventions and other treaty instruments;

Application of the Committee's Guidelines;

Election of officers;

Any other business, including reconsideration of the Committee's recommendation related to liability and compensation issues connected to transboundary oil pollution damage from offshore exploration and exploitation activities;

Consideration of the report of the Committee on its ninety-ninth session.

The public should be aware that Assembly, at its twenty-seventh session in resolution A.1058(27) (20 December 2011), invited Member States and other concerned parties to submit proposals to the Committee to enable consideration of developing guidance to assist (1) in the collation and preservation of evidence following the allegation of a serious crime onboard, or following a report of a missing person from, a ship and (2) in the pastoral and medical care of alleged victims of serious crimes onboard ships. Although no such formal proposal has been received at this time, the U.S. delegation anticipates that this issue will be raised at this session.

Members of the public may attend this meeting up to the seating capacity of the room. To facilitate the building security process, and to request reasonable accommodation, those who plan to attend should contact the meeting coordinator, Ms. Bronwyn G. Douglass, by email at bronwyn.douglass@uscg.mil, by phone at (202) 372-3792, by fax at (202) 372-3975, or in writing at Commandant (CG-0941), U.S. Coast Guard, 2100 2nd Street SW., Stop 7121, Washington, DC 20593-7121 not later than April 2, 2012, 7 days prior to the meeting. Requests made after April 2, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: February 22, 2012.
Brian Robinson,
Executive Secretary, Shipping Coordinating Committee, Department of State.

[FR Doc. 2012-4851 Filed 2-28-12; 8:45 am]

BILLING CODE 4710-09-P